INTERNATIONAL TRADE COMMISSION

[Investigation No. 337-TA-894]

Certain Tires and Products Containing Same; Institution of Investigation Pursuant to United States Code

AGENCY: U.S. International Trade Commission.

ACTION: Notice.

SUMMARY: Notice is hereby given that a complaint was filed with the U.S. International Trade Commission on August 14, 2013, under section 337 of the Tariff Act of 1930, as amended, 19 U.S.C. 1337, on behalf of Toyo Tire & Rubber Co., Ltd. of Japan; Toyo Tire Holdings of Americas Inc. of Cypress, California; Toyo Tire U.S.A. Corp. of Cypress, California; Nitto Tire U.S.A. Inc. of Cypress, California; and Toyo Tire North America Manufacturing Inc. of White, Georgia. A supplement to the complaint was filed on September 5, 2013. The complaint, as supplemented, alleges violations of section 337 based upon the importation into the United States, the sale for importation, and the sale within the United States after importation of certain tires and products containing same by reason of infringement of U.S. Design Patent No. D487,424 (“the ’424 patent”); U.S. Design Patent No. D610,975 (“the ’975 patent”); U.S. Design Patent No. D610,976 (“the ’976 patent”); U.S. Design Patent No. D610,977 (“the ’977 patent”); U.S. Design Patent No. D615,031 (“the ’031 patent”); U.S. Design Patent No. D626,913 (“the ’913 patent”); U.S. Design Patent No. D458,214 (“the ’214 patent”); and U.S. Design Patent No. D653,200 (“the ’200 patent”). The complaint further alleges that an industry in the United States exists as required by subsection (a)(2) of section 337.

The complainants request that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2013).

Scope of Investigation: Having considered the complaint, the U.S. International Trade Commission, on September 13, 2013, ordered that—

(1) Pursuant to subsection (b) of section 337 of the Tariff Act of 1930, as amended, an investigation be instituted to determine whether there is a violation of subsection (a)(1)(B) of section 337 in the importation into the United States, the sale for importation, or the sale within the United States after importation of certain tires and products containing same by reason of infringement of one or more of the claim of the ’424 patent; the claim of the ’975 patent; the claim of the ’976 patent; the claim of the ’977 patent; the claim of the ’031 patent; the claim of the ’913 patent; the claim of the ’214 patent; and the claim of the ’200 patent; and whether an industry in the United States exists as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), and (g)(1);

(3) For the purpose of the investigation so instituted, the following are hereby named as parties upon which this notice of investigation shall be served:

(a) The complainants are:

Toyo Tire & Rubber Co., Ltd., 1-17-18 Edobori, Nishi-ku, Osaka 550-8661, Japan

Toyo Tire Holdings of Americas Inc., 5665 Plaza Drive, Suite 200, Cypress, CA 90630

Toyo Tire U.S.A. Corp., 5665 Plaza Drive, Suite 200, Cypress, CA 90630

Nitto Tire U.S.A. Inc., 5665 Plaza Drive, Suite 200, Cypress, CA 90630

Toyo Tire North America Manufacturing Inc., 3660 Highway 411 NE., White, GA 30184

(b) The respondents are the following entities alleged to be in violation of section 337, and are the parties upon which the complaint is to be served:

Hong Kong Tri-Ace Tire Co., Ltd., No. 612 6/F South Tower, Guangzhou International Trade Building, Tianhe, Guangzhou, Guangdong, China 510620

Weifang Shunfuchang Rubber & Plastic Co., Ltd., The West of JinGuang Street, Chenming Industrial Park, Shouguang City, Shandong, China 262719

Doublestar Dong Feng Tyre Co., Ltd., No. 21 Hanjiang North Road, Shiyan, Hubei, China 442011

Shandong Yongtai Chemical Group Co., Ltd., No. 14 Yingchun Road, Dawang Town, Shangrao, Dongying, Shandong, China 257335

MHT Luxury Alloys, 19200 S Reyes Avenue, Rancho Dominguez, CA 90221

Wheel Warehouse, Inc., 125 W La Palma Ave., Unit P, Anaheim, CA 92801

Shandong Linglong Tyre Co., Ltd., 777 Jinlong Road, Zhaoyuan City, Shangdong, China 265406

Dunlap & Kyle Company, Inc., d/b/a Gateway Tire and Service, Eureka St. Extended, Batesville, MS 38606

Unicorn Tire Corp., 4660 Distriplex Drive West, Memphis, TN 38118

West KY Customs, LLC, 380 Chapel Lane, Benton, KY 42025

Svizz-One Corporation Ltd., 4/1-2 Moo 7, Banglane-Kohrat Road, Bangpla, Banglane, Nakornpathom, Thailand 73170

South China Tire and Rubber Co., Ltd., 116 Donghuan Road, Panyu District, Guangzhou City, Guangdong, China 511400

American Omni Trading Co., LLC, 15354 Park Row, Houston, TX 77084

Tire & Wheel Master, Inc., 3745 Petersen Road, Stockton, CA 95215

Simple Tire, 472 S Walnut Avenue, Cookeville, TN 38501

WTD Inc., 16201 Commerce Way, Cerritos, CA 90703

Guangzhou South China Tire & Rubber Co., Ltd., Bldg 14 #13 Qianjin Road (C), Aotou, Conghua, Guangdong, China 510940

Turbo Wholesale Tires, Inc., 5793 Martin Road, Irwindale, CA 91706

TireCrawler.com, 12238 S Woodruff Avenue, Downey, CA 90241

Lexani Tires Worldwide, Inc., 5793 Martin Road, Irwindale, CA 91706

Vittore Wheel & Tire, 502 Industrial Park Avenue, Asheboro, NC 27203

RTM Wheel & Tire, 162 North Cherry Street, Asheboro, NC 27203

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 16, 2013.
Lisa R. Barton,
Acting Secretary to the Commission.

[FR Doc. 2013-22895 Filed 9-19-13; 8:45 am]

BILLING CODE 7020-02-P